DEPARTMENT OF THE INTERIOR

[FWS-R4-ES-2018-N153; FVHC98220410150-XXX-FF04H00000]

Deepwater Horizon Oil Spill Draft Restoration Plan #1.1 and Environmental Assessment; Louisiana Trustee Implementation Group

AGENCY: Department of the Interior.

ACTION: Notice of availability; request for public comments.

SUMMARY: In accordance with the Oil Pollution Act of 1990, the National Environmental Policy Act, the Final Programmatic Damage Assessment Restoration Plan and Final Programmatic Environmental Impact Statement (Final PDARP/PEIS), and the Consent Decree, the Federal and State natural resource trustee agencies for the Louisiana Trustee Implementation Group (Louisiana TIG) have prepared Draft Restoration Plan and Environmental Assessment #1.1: Restoration of Queen Bess Island (Draft RP/EA #1.1), describing and proposing construction activities for the restoration of Queen Bess Island. The Queen Bess Island Restoration Project was approved for engineering and design in a 2016 restoration plan entitled Louisiana Trustee Implementation Group Draft Restoration Plan #1: Restoration of Wetlands, Coastal, and Nearshore Habitats; Habitat Projects on Federally Managed Lands; and Birds (RP 1). The Queen Bess Island Restoration Project would continue the process of restoring birds injured as a result of the Deepwater Horizon oil spill, which occurred on or about April 20, 2010, in the Gulf of Mexico.

DATES:

Submitting Comments: We will consider public comments received on or before January 22, 2019.

Public Meeting: The Trustees will host a public meeting on January 3, 2019, in association with the Louisiana Wildlife and Fisheries Commission meeting at the Wildlife and Fisheries Headquarters Building, 2000 Quail Drive, Baton Rouge, LA 70808. The exact meeting time will be posted on the Trustees' website (see ADDRESSES).

ADDRESSES:

Obtaining Documents: You may download the Draft RP/EA #1.1 from any of the following websites:

• http://www.gulfspillrestoration.noaa.gov;

• https://www.doi.gov/deepwaterhorizon/adminrecord; or

• http://www.la-dwh.com.

Alternatively, you may request a CD of the Draft RP/EA #1.1 (see FOR FURTHER INFORMATION CONTACT).

Submitting Comments: You may submit comments on the Draft RP/EA #1.1 by one of the following methods:

• Via the Web: http://www.gulfspillrestoration.noaa.gov/restoration-areas/louisiana.

• Via U.S. Mail: U.S. Fish and Wildlife Service, P.O. Box 49567, Atlanta, GA 30345. In order to be considered, mailed comments must be postmarked on or before the comment deadline given in DATES.

• In Person: Verbal comments may be provided at the public meeting on January 3, 2019.

FOR FURTHER INFORMATION CONTACT: Nanciann Regalado, via email at nanciann_regalado@fws.gov, via telephone at 678-296-6805, or via the Federal Relay Service at 800-877-8339.

SUPPLEMENTARY INFORMATION:

Introduction

On April 20, 2010, the mobile offshore drilling unit Deepwater Horizon, which was being used to drill a well for BP Exploration and Production, Inc. (BP), in the Macondo prospect (Mississippi Canyon 252—MC252), experienced a significant explosion, fire, and subsequent sinking in the Gulf of Mexico, resulting in an unprecedented volume of oil and other discharges from the rig and from the wellhead on the seabed. The Deepwater Horizon oil spill is the largest oil spill in U.S. history, discharging millions of barrels of oil over a period of 87 days. In addition, well over one million gallons of dispersants were applied to the waters of the spill area in an attempt to disperse the spilled oil. An undetermined amount of natural gas was also released into the environment as a result of the spill.

The Trustees conducted the natural resource damage assessment (NRDA) for the Deepwater Horizon oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The Deepwater Horizon Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The Trustees reached and finalized a settlement of their natural resource damage claims with BP in an April 4, 2016, Consent Decree approved by the U.S. District Court for the Eastern District of Louisiana. Pursuant to that Consent Decree, restoration projects in Louisiana are now selected and implemented by the Louisiana Trustee Implementation Group (TIG). The Louisiana TIG is composed of the following Trustees:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources.

Background

The Final Programmatic Damage Assessment Restoration Plan and Final Programmatic Environmental Impact Statement (Final PDARP/PEIS) provides for TIGs to propose phasing restoration projects across multiple restoration plans. A TIG may propose funding a planning phase (e.g., initial engineering, design, and compliance) in one plan for a conceptual project. This would allow the TIG to develop information needed to fully consider a subsequent implementation phase of that project in a future restoration plan. In 2016, the LA TIG included the Queen Bess Island Restoration Project as a preferred alternative to fund engineering and design (E&D) in RP #1. After approval, the Queen Bess Island Restoration Project began E&D. It is currently at a stage of E&D where National Environmental Policy Act (NEPA) analyses can be conducted on the design alternatives. Therefore, the Louisiana TIG is proposing in RP/EA #1.1 the implementation phase for the Queen Bess Island Restoration Project.

Overview of the Louisiana TIG Draft RP/EA #1.1

The Draft RP/EA #1.1 is being released in accordance with OPA, NRDA regulations found in the Code of Federal Regulations (CFR) at 15 CFR part 990, NEPA, the Consent Decree, and Final PDARP/PEIS.

In the Draft RP/EA #1.1, the Louisiana TIG proposes a preferred design alternative for the Queen Bess Island Restoration Project, which was approved for E&D in a 2016 Louisiana TIG final restoration plan, under the bird restoration type. After screening six design alternatives, the Louisiana TIG analyzed in detail in the Draft RP/EA #1.1 one other design alternative and a no action alternative.

The proposed design alternative is intended to continue the process of using Deepwater Horizon restoration funding to restore natural resources injured or lost as a result of the Deepwater Horizon oil spill. The total estimated cost for construction of the proposed Queen Bess Island Restoration Project is $16,710,000. Details are provided in the Draft RP/EA #1.1. Additional restoration planning for the Louisiana Restoration Area will continue.

Next Steps

As described above, the Trustees will hold a public meeting to facilitate the public review and comment process. After the public comment period ends, the Trustees will consider and address the comments received before issuing a Final RP/EA #1.1.

Public Availability of Comments

Before including your address, phone number, email address, or other personal identifying information in your comment, you should be aware that your entire comment—including your personal identifying information—may be made publicly available at any time. While you can ask us in your comment to withhold your personal identifying information from public review, we cannot guarantee that we will be able to do so.

Administrative Record

The documents comprising the Administrative Record for this Draft RP/EA #1.1 can be viewed electronically at https://www.doi.gov/deepwaterhorizon/adminrecord.

Authority

The authority of this action is the Oil Pollution Act of 1990 (33 U.S.C. 2701 et seq.), its implementing Natural Resource Damage Assessment regulations found at 15 CFR part 990, and the National Environmental Policy Act of 1969 (42 U.S.C. 4321 et seq.).

Mary Josie Blanchard,
Department of the Interior, Director of Gulf of Mexico Restoration.

[FR Doc. 2018-27530 Filed 12-19-18; 8:45 am]

BILLING CODE 4333-15-P